DEPARTMENT OF LABOR

Employment and Training Administration

[TA-A-40,521 and TA-A-40,521K]

Republic Technologies International, Corporate Office, Akron, OH and Republic Technologies International, Canton Special Metals Plant, Canton, OH; Amended Certification Regarding Eligibility To Apply for Worker Adjustment Assistance

In accordance with section 223 of the Trade Act of 1974 (19 USC 2273) the Department of Labor issued a Certification of Eligibility to Apply for Worker Adjustment Assistance on February 19, 2002, applicable to workers of Republic Technologies, International, Headquartered in Akron, Ohio, including various facilities located in Ohio, Illinois, New York, Pennsylvania and Indiana. The notice was published in the Federal Register on February 28, 2002 (67 FR 93225).

At the request of the company, the Department reviewed the certification for workers of the subject firm. The company reports that worker separations occurred at the Corporate Office, Akron, Ohio location of the subject firm. The Corporate Office provides administrative support functions including finance, sales, marketing customer service and Human Resource services to the subject firms' many production facilities. Findings also show that worker separations occurred at the Canton Special Metals Plant, Canton, Ohio location of the subject firm. The workers are engaged in the production of hot rolled steel bars, cold finished steel bars and specialty steel. The intent of the Department's certification is to include all workers of Republic Technologies International adversely affected by increased imports.

Accordingly, the Department is amending the certification to cover workers of Republic Technologies International, Corporate Office, Akron, Ohio and the Canton Special Metals Plant, Canton, Ohio.

The amended notice applicable to TA-W-40,521 is hereby issued as follows:

All workers of Republic Technologies International, Corporate Office, Akron, Ohio (TA-W-40,521) and the Canton Special Metals Plant, Canton, Ohio (TA-W-40,521K) who became totally or partially separated from employment on or after November 19, 2000, through February 19, 2004, are eligible to apply for adjustment assistance under Section 223 of the Trade Act of 1974.

Signed at Washington, DC, this 11th day of April, 2002.
Linda G. Poole,
Certifying Officer, Division of Trade Adjustment Assistance.

[FR Doc. 02-10897 Filed 5-1-02; 8:45 am]

BILLING CODE 4510-30-M